DEPARTMENT OF HEALTH AND HUMAN SERVICES

Centers for Disease Control and Prevention

[30Day-24-0931]

Agency Forms Undergoing Paperwork Reduction Act Review

In accordance with the Paperwork Reduction Act of 1995, the Centers for Disease Control and Prevention (CDC) has submitted the information collection request titled “Blood Lead Surveillance System (BLSS)” to the Office of Management and Budget (OMB) for review and approval. CDC previously published a “Proposed Data Collection Submitted for Public Comment and Recommendations” notice on November 27, 2023 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Blood Lead Surveillance System (BLSS) (OMB Control No. 0920-0931, Exp. 07/31/2024)—Extension—National Center for Environmental Health (NCEH), Centers for Disease Control and Prevention (CDC).

Background and Brief Description

This is a request for a three-year Extension for an existing Paperwork Reduction Act (PRA) clearance titled “Blood Lead Surveillance System (BLSS)” (OMB Control No.0920-0931, Exp. 07/31/2024). The National Center for Environmental Health (NCEH) is leading this data collection conducted by for two Centers for Disease Control and Prevention (CDC) programs; one for childhood blood lead surveillance by NCEH and another for adult blood lead surveillance by the National Institute for Occupational Safety and Health (NIOSH).

The goal of the NCEH Childhood Blood Lead Surveillance (CBLS) Program is to support blood lead screening and to promote primary prevention of exposure to lead. The CBLS Program also supports secondary prevention of adverse health effects when lead exposures occur in children, through improved program management and oversight in respondent jurisdictions.

The goal of the NIOSH Adult Blood Lead Epidemiology and Surveillance (ABLES) Program is to build state capacity for adult blood lead surveillance programs to measure trends in adult blood lead levels and to prevent lead over-exposures.

NCEH has a five-year cooperative agreement, titled “Childhood Lead Poisoning Prevention and Surveillance of Blood Lead Levels in Children” (Funding Opportunity Announcement [FOA] No. CDC-RFA-EH21-2102). The first two years of this ICR will extend from FY24 through FY26, and thus will be covered for two-thirds of the ICR three-year period, while funding for the third year of this ICR will be determined in the future. Data submission to the ABLES Program is voluntary and completed through data sharing agreements with state agencies or their bona fide agents.

Blood lead surveillance over the human lifespan is covered under this single ICR, specifically for children younger than 16 years through CBLS at NCEH, and for adults 16 years and older, through ABLES at NIOSH. Over the past several decades there have been substantial efforts in environmental lead abatement, improved protection from occupational lead exposure, and a reduction in the prevalence of population blood lead levels (BLLs) over time. The U.S. population BLLs have substantially decreased over the last four decades. For example, the CDC has reported the 1976-1980 U.S. mean BLL in children six months to five years was 16.0 micrograms per deciliter (mcg/dL), and 14.1 mcg/dL among adults 18 to 74 years. More recently, the CDC reported the 2009-2010 U.S. BLL geometric means among children one to five years and among adults 20 years and older as 1.2 mcg/dL for both age groups. In 2012, the National Toxicology Program (NTP) concluded that there is sufficient evidence that even BLLs less than 5 mcg/dL are associated with adverse health effects in both children and adults. Despite the reduction in the overall population BLL over four decades, lead exposures continue to occur at unacceptable levels for individuals in communities and workplaces across the nation. Surveillance will continue through CBLS and ABLES to identify individuals with BLLs greater than most children who may need follow-up. Surveillance can also help prioritize communities for primary prevention of lead exposure and expanding blood lead testing. As of October 2021, NCEH defines its Blood Lead Reference Value (BLRV) for children at 3.5 mcg/dL. NIOSH defines an elevated BLLs as greater than or equal to 5 mcg/dL for adults.

Respondents are defined as state, local, and territorial health departments with lead poisoning prevention programs. The estimated annual time burden for NCEH CBLS is 1,058 hours. The estimated annual time burden for NIOSH ABLES is 280 hours. In total, CDC is requesting approval for a total annual time burden of 1,338 hours.

Estimated Annualized Burden Hours
Type of respondents | Form name | Number of respondents | Number of responses per respondent | Average burden per response (in hours)
State, Local and Territorial Health Departments, or their Bona Fide Agents | CBLS Variables (ASCII Text Files) | 66 | 4 | 4
| CBLS Aggregate Records Form (Excel) | 1 | 1 | 2
| ABLES Case Records Form and Brief Narrative Report | 32 | 1 | 8
| ABLES Aggregate Records Form and Brief Narrative Report | 8 | 1 | 3

Jeffrey M. Zirger,
Lead, Information Collection Review Office, Office of Public Health Ethics and Regulations, Office of Science, Centers for Disease Control and Prevention.

[FR Doc. 2024-11589 Filed 5-24-24; 8:45 am]

BILLING CODE 4163-18-P